DEPARTMENT OF HEALTH AND HUMAN SERVICES

Centers for Medicare & Medicaid Services

[Document Identifier: CMS-10856]

Agency Information Collection Activities: Submission for OMB Review; Comment Request; Withdrawal

AGENCY: Centers for Medicare & Medicaid Services, Health and Human Services (HHS).

ACTION: Notice; withdrawal.

SUMMARY: On Thursday, September 26, 2024, the Centers for Medicare & Medicaid Services (CMS) published a 30-day Paperwork Reduction Act of 1995 notice entitled, “Agency Information Collection Activities: Submission for OMB Review; Comment Request.” The notice invited public comment on Document Identifier: CMS-10856; Title of Information Collection: Medicaid Managed Care and Supporting Regulations; and Form Number: CMS-10856 (OMB control number 0938-1453). Through the publication of this document we are withdrawing the September 26, 2024, notice in its entirety.

DATES: This withdrawal is applicable on October 28, 2024.

SUPPLEMENTARY INFORMATION: Through the publication of this notice we are withdrawing FR document 2024-21982 which published in the Federal Register on September 26, 2024 (89 FR 78875). Upon further review the associated collection of information request was not ready for public review and comment. The 30-day notice will republish at a date to be determined.

William N. Parham, III,
Director, Division of Information Collections and Regulatory Impacts, Office of Strategic Operations and Regulatory Affairs.

[FR Doc. 2024-25019 Filed 10-25-24; 8:45 am]

BILLING CODE 4120-01-P